DEPARTMENT OF COMMERCE

International Trade Administration

[A-469-814]

Chlorinated Isocyanurates from Spain: Preliminary Results and Rescission, in Part, of Antidumping Duty Administrative Review

AGENCY: Import Administration, International Trade Administration, Department of Commerce.

SUMMARY: In response to timely requests by Clearon Corporation and Occidental Chemical Corporation (collectively, “petitioners”), and Aragonesas Industrias y Energía S.A. (“Aragonesas”), the Department of Commerce (“Department”) is conducting an administrative review of the antidumping duty order on chlorinated isocyanurates (“chlorinated isos”) from Spain with respect to Aragonesas. The period of review (“POR”) is June 1, 2007 through May 31, 2008. In accordance with 19 CFR 351.213(d)(1), the Department is also rescinding this review with respect to Inquide Flix, S.A. (“Inquide”).

The Department preliminarily determines that Aragonesas made U.S. sales of chlorinated isos at prices less than normal value (“NV”). See Preliminary Results of Review section, below. If these preliminary results are adopted in our final results of administrative review, the Department will instruct U.S. Customs and Border Protection (“CBP”) to assess antidumping duties on all appropriate entries. Interested parties are invited to comment on these preliminary results. See Disclosure and Public Hearing section, below. Unless extended, we will issue the final results of review no later than 120 days from the date of publication of this notice.

EFFECTIVE DATE: May 27, 2009.

FOR FURTHER INFORMATION CONTACT: Myrna Lobo, AD/CVD Operations, Office 6, Import Administration, International Trade Administration, U.S. Department of Commerce, 14th Street and Constitution Avenue, NW, Washington, DC 20230; telephone (202) 482-2371.

SUPPLEMENTARY INFORMATION: On June 24, 2005, the Department published in the Federal Register an antidumping duty order on chlorinated isos from Spain. See Chlorinated Isocyanurates from Spain: Notice of Antidumping Duty Order, 70 FR 36562 (June 24, 2005). On June 9, 2008, the Department published a notice of “Opportunity to Request an Administrative Review” of the antidumping duty order. See Antidumping or Countervailing Duty Order, Finding, or Suspended Investigation; Opportunity to Request Administrative Review, 73 FR 32557 (June 9, 2008). Timely requests for reviews were received from petitioners with respect to Aragonesas and Inquide. The Department also received timely requests from Aragonesas and Inquide with respect to each of their companies. In response to these requests, the Department published a notice of initiation of administrative reviews with respect to Aragonesas and Inquide. See Initiation of Antidumping and Countervailing Duty Administrative Reviews, Request for Revocation in Part, and Deferral of Administrative Review, 73 FR 44220 (July 30, 2008). The POR for this administrative review is June 1, 2007 through May 31, 2008.

On July 22, 2008, Inquide withdrew its request for administrative review. On September 18, 2008, petitioners withdrew their request for review with regard to Inquide. The applicable regulation, 19 CFR 351.213(d)(1), states that if a party that requested an administrative review withdraws the request within 90 days of the date of publication of the notice of initiation of the requested review, the Secretary will rescind the review. In this case both requesting parties withdrew their requests within the time limit. Therefore, we are rescinding this review, in part, with respect to Inquide.

On August 21, 2008, the Department issued an antidumping duty questionnaire to Aragonesas. On September 25, 2008, the Department received Aragonesas' response to section A of the antidumping questionnaire. On October 15, 2008, the Department received Aragonesas' response to sections B and C of the antidumping questionnaire. On October 27, 2008, the Department received Aragonesas' response to section D of the antidumping questionnaire. We issued supplemental questionnaires to Aragonesas on November 26, 2008, December 9, 2008, January 29, 2009, and February 6, 2009. Aragonesas filed a timely response to each supplemental questionnaire.

On February 25, 2009, the Department extended the time limit for the preliminary results by 78 days. See Chlorinated Isocyanurates from Spain: Extension of Time Limit for Preliminary Results of Antidumping Duty Administrative Review, 74 FR 9218 (March 3, 2009).

Scope of the Order

The products covered by the order are chlorinated isocyanurates. Chlorinated isocyanurates are derivatives of cyanuric acid, described as chlorinated s-triazine triones. There are three primary chemical compositions of chlorinated isocyanurates: (1) trichloroisocyanuric acid (Cl3(NCO)3), (2) sodium dichloroisocyanurate (dihydrate) (NaCl2(NCO)3 2H2O), and (3) sodium dichloroisocyanurate (anhydrous) (NaCl2(NCO)3). Chlorinated isocyanurates are available in powder, granular, and tableted forms. The order covers all chlorinated isocyanurates.

Chlorinated isocyanurates are currently classifiable under subheadings 2933.69.6015, 2933.69.6021, and 2933.69.6050 of the Harmonized Tariff Schedule of the United States (“HTSUS”). The tariff classification 2933.69.6015 covers sodium dichloroisocyanurates (anhydrous and dihydrate forms) and trichloroisocyanuric acid. The tariff classifications 2933.69.6021 and 2933.69.6050 represent basket categories that include chlorinated isocyanurates and other compounds including an unfused triazine ring. Although the HTSUS subheadings are provided for convenience and customs purposes, the written description of the scope of the order is dispositive.

Verification

As provided in section 782(i) of the Tariff Act of 1930, as amended (“the Act”), from March 23, 2009 through April 3, 2009, the Department verified the cost and sales information submitted by Aragonesas in its questionnaire responses provided during the course of this review. We used standard verification procedures including examination of relevant accounting and production records, and original source documents provided by the respondent. See Memorandum from Robert Greger, Senior Accountant, to The File, “Verification of the Cost Response of Aragonesas Industrias y Energia, S.A. in the Antidumping Duty Administrative Review of Chlorinated Isocyanurates from Spain,” dated May 18, 2009 (“Cost Verification Report”); see also Memorandum from Myrna Lobo, International Trade Compliance Analyst, to The File, “Verification of the Sales Response of Aragonesas Industrias y Energia, S.A. in the Antidumping Duty Administrative Review of Chlorinated Isocyanurates from Spain,” dated May 18, 2009 (“Sales Verification Report”). Both verification reports are on file in the Central Records Unit (CRU), Room 1117 of the main Commerce Building.

Selection of Comparison Market for Normal Value

In order to determine whether there was a sufficient volume of sales in the home market to serve as a viable basis for calculating NV, the Department compared Aragonesas' volume of home market sales of the foreign like product to the volume of U.S. sales of the subject merchandise, in accordance with section 773(a)(1)(C) of the Act. We excluded sales of merchandise that was not foreign like product for reasons that are of a business proprietary nature. See Memorandum from Myrna Lobo, International Trade Compliance Analyst, to The File, “Calculation Memorandum for the Preliminary Results,” dated May 19, 2009 (“Preliminary Calculation Memorandum”). Because Aragonesas' aggregate volume of home market sales of the foreign like product was greater than five percent of its aggregate volume of U.S. sales of subject merchandise, the Department determines that the home market is viable and sales in the home market can serve as the basis for calculating NV.

Date of Sale

Aragonesas reported invoice date as the date of sale for U.S. and home market sales. The Department's regulations state that “{i}n identifying the date of sale of the subject merchandise or foreign like product, the Secretary normally will use the date of invoice, as recorded in the exporter or producer's records kept in the ordinary course of business. However, the Secretary may use a date other than the date of invoice if the Secretary is satisfied that a different date better reflects the date on which the exporter or producer establishes the material terms of sale.” See 19 CFR 351.401(i). We examined the questionnaire responses and relevant sales documentation at verification, and determine that invoice date is the appropriate date of sale in both the U.S. and home markets.

However, in accordance with the Department's practice, whenever shipment date precedes invoice date, we used shipment date as the date of sale. See, e.g., Stainless Steel Sheet and Strip in Coils from the Republic of Korea; Preliminary Results and Partial Rescission of Antidumping Duty Administrative Review, 71 FR 18074, 18079-80 (April 10, 2006), remaining unchanged in Stainless Steel Sheet and Strip in Coils From the Republic of Korea; Final Results and Rescission of Antidumping Duty Administrative Review in Part, 72 FR 4486 (January 31, 2007); and Certain Steel Concrete Reinforcing Bars From Turkey; Final Results of Antidumping Duty Administrative Review and New Shipper Review and Determination To Revoke in Part, 72 FR 62630 (November 6, 2007) and accompanying Issues and Decision Memorandum at Issue 2, where the Department found “that it is appropriate to use the earlier of shipment or invoice date as Colakoglu's and Habas' U.S. date of sale in the instant review, consistent with the date-of-sale methodology established in the previous review.”

Comparisons to Normal Value

To determine whether Aragonesas sold chlorinated isos in the United States at prices less than NV, the Department compared the export price (“EP”) of individual U.S. sales to the weighted-average NV of sales of the foreign like product made in the ordinary course of trade in a month contemporaneous with the month in which the U.S. sale was made. See sections 777A(d)(2) and 773(a)(1)(B)(i) of the Act.

Section 771(16) of the Act defines foreign like product as merchandise that is identical or similar to subject merchandise and produced by the same person and in the same country as the subject merchandise. Thus, we considered all products covered by the scope of the order that were produced by the same person and in the same country as the subject merchandise, and sold by Aragonesas in the home market during the POR, to be foreign like products for the purpose of determining appropriate product comparisons to chlorinated isos sold in the United States.

Product Comparisons

In accordance with section 771(16) of the Act, the Department considered all products produced by the respondent, covered by the description in the “Scope of the Order” section above, to be foreign like products for purposes of determining appropriate product comparisons to U.S. sales. Pursuant to 19 CFR 351.414(e)(2), the Department compared U.S. sales made by Aragonesas to sales made in the home market within the contemporaneous window period, which extends from three months prior to the U.S. sale until two months after the sale. Where there were no sales of identical merchandise in the comparison market made in the ordinary course of trade to compare to U.S. sales, the Department compared U.S. sales to sales of the most similar foreign like product made in the ordinary course of trade. In making the product comparisons, the Department used the physical characteristics determined by the Department, and reported by Aragonesas, to match foreign like products to U.S. sales: chemical structure, free available chlorine content, physical form, and packaging.

Export Price

The Department based the price of Aragonesas' U.S. sales on EP methodology, in accordance with section 772(a) of the Act, because the subject merchandise was sold directly by Aragonesas to the first unaffiliated purchaser in the United States prior to importation and the constructed export price (“CEP”) methodology was not otherwise indicated. We based EP on packed prices to unaffiliated purchasers in the United States. Aragonesas reported its U.S. sales on a delivered, duty paid basis. We made deductions from the starting price, where appropriate, for billing adjustments, foreign inland freight, international freight, foreign inland and marine insurance, foreign and U.S. brokerage and handling, U.S. inland freight, commissions and U.S. duty, in accordance with section 772(c)(2) of the Act and 19 CFR 351.402. We also made some corrections and adjustments to international freight, brokerage and handling, inventory carrying costs and indirect selling expenses based on our findings at verification. See Preliminary Calculation Memorandum.

Normal Value

After testing home market viability, whether home market sales to affiliates were at arm's-length prices, and whether home market sales were at below-cost prices, we calculated NV for Aragonesas as noted in the “Calculation of Normal Value Based on Comparison Market Prices” section of this notice, below.

A. Arm's Length Test

The Department may calculate NV based on a sale to an affiliated party only if it is satisfied that the price to the affiliated party is comparable to the prices at which sales are made to parties not affiliated with the exporter or producer, i.e., sales at arm's-length. See 19 CFR 351.403(c). Sales to affiliated customers for consumption in the home market that are determined not to be at arm's-length are excluded from our analysis. In this proceeding, Aragonesas reported sales of the foreign like product to one affiliated customer. To test whether these sales were made at arm's-length prices, the Department compared the prices of sales of comparable merchandise to affiliated and unaffiliated customers, net of all movement charges, direct selling expenses, and packing. Pursuant to 19 CFR 351.403(c), and in accordance with the Department's practice, when the prices charged to an affiliated party are, on average, between 98 and 102 percent of the prices charged to unaffiliated parties for merchandise comparable to that sold to the affiliated party, we determine that the sales to the affiliated party are at arm's-length. See Antidumping Proceedings: Affiliated Party Sales in the Ordinary Course of Trade, 67 FR 69186, 69187 (November 15, 2002). In this instance, Aragonesas' sales to the affiliated home market customer did not pass the arm's-length test, and we therefore excluded those sales from our analysis. See section 773(b)(1) of the Act. See also Preliminary Calculation Memorandum.

B. Cost of Production Analysis

In the most recently completed review, the Department disregarded sales made at prices that were below cost of production (“COP”). See Chlorinated Isocyanurates from Spain: Final Results of Antidumping Duty Administrative Review, 73 FR 79789 (December 30, 2008). As a result, in accordance with section 773(b)(2)(A)(ii) of the Act, in this review the Department determined that there are reasonable grounds to believe or suspect that Aragonesas sold the foreign like product at prices below the cost of producing the product during the instant POR. Accordingly, the Department required that Aragonesas provide a response to Section D of the questionnaire.

1. Calculation of Cost of Production

In accordance with section 773(b)(3) of the Act, for each product, sorted by control number, sold by Aragonesas during the POR, the Department calculated Aragonesas' weighted-average COP based on the sum of its materials and fabrication costs, plus amounts for general and administrative expenses and interest expenses. See “Test of Comparison Market Sales Prices” section below for treatment of home market selling expenses. We relied on the COP information provided by Aragonesas in its questionnaire responses. We made some adjustments to the COP information based on our findings at the cost verification. These adjustments are detailed in the Memorandum to Neal Halper, “Cost of Production and Constructed Value Calculation Adjustments for the Preliminary Results for Aragonesas Industrias y Energia S.A.” dated May 19, 2009 (Preliminary Cost Memorandum). See also Cost Verification Report.

2. Test of Comparison Market Sales Prices

In order to determine whether sales were made at prices below the COP, on a product-specific basis, the Department compared Aragonesas adjusted weighted-average COP to the home market sales of the foreign like product, as required under section 773(b) of the Act. In accordance with sections 773(b)(1)(A) and (B) of the Act, in determining whether to disregard home market sales made at prices less than the COP, we examined whether such sales were made: (1) in substantial quantities within an extended period of time; and (2) at prices which permitted the recovery of all costs within a reasonable period of time in the normal course of trade. The prices were inclusive of billing adjustments and exclusive of any applicable movement charges, discounts and rebates, direct and indirect selling expenses, and packing expenses, revised where appropriate.

3. Results of the COP Test

Pursuant to section 773(b)(2)(C) of the Act, where less than 20 percent of a respondent's home market sales of a given product are at prices less than the COP, the Department does not disregard any below cost sales of that product, because the Department determines that in such instances the below cost sales were not made within an extended period of time and in “substantial quantities.” Where 20 percent or more of a respondent's sales of a given product are at prices less than the COP, the Department disregards the below cost sales because they: (1) were made within an extended period of time in “substantial quantities,” in accordance with section 773(b)(2)(B) and (C) of the Act; and (2) based on our comparison of prices to the weighted-average COPs for the POR, were at prices which would not permit the recovery of all costs within a reasonable period of time, in accordance with section 773(b)(2)(D) of the Act. Based on the results of our test, we found that, for certain products, more than 20 percent of Aragonesas' home market sales were at prices less than the COP and, in addition, such sales did not provide for the recovery of costs within a reasonable period of time. We therefore excluded these sales and used the remaining sales as the basis for determining NV, in accordance with section 773(b)(1) of the Act.

C. Calculation of Normal Value Based on Comparison Market Prices

We based NV on the prices at which the foreign like product was first sold by Aragonesas for consumption in the home market, in the usual commercial quantities, in the ordinary course of trade, and, to the extent possible, at the same level of trade (“LOT”) as the comparison U.S. sale. We excluded sales of merchandise that was not foreign like product, for reasons that are of a business proprietary nature. See Preliminary Calculation Memorandum. We calculated NV for Aragonesas using the reported gross unit prices to unaffiliated purchasers. Aragonesas reported that it offers its home market customers the following terms of delivery: cost and freight, carriage insurance paid, carriage paid, delivered duty paid, delivered duty unpaid, ex-works/free carrier, and free on truck. Where appropriate, the Department made adjustments to the starting price for billing adjustments. We deducted home market movement expenses pursuant to section 773(a)(6)(B) of the Act. At the sales verification, Aragonesas could not locate an inland freight invoice pertaining to a few home market observations. For these few observations, as facts available under section 776(a)(2)(A) of the Act, we are using the average freight expense Aragonesas incurred to that customer. We deducted, where appropriate, discounts and rebates, pursuant to section 773(a)(6)(B)(ii) of the Act. We also made adjustments for differences in costs attributable to differences in the physical characteristics of the merchandise, in accordance with section 773(a)(6)(C)(ii) of the Act and 19 CFR 351.411. In addition, the Department made adjustments under section 773(a)(6)(C)(iii) of the Act and 19 CFR 351.410 for differences in circumstances of sale for imputed credit and warranty expenses. We also deducted home market packing costs and added U.S. packing costs, in accordance with section 773(a)(6)(A) and (B) of the Act. Further, based on our findings at verification, we made corrections to inland freight and we recalculated indirect selling expenses, inventory carrying costs and rebates. See Sales Verification Report. See also Preliminary Calculation Memorandum.

We also made the appropriate adjustment where necessary for commissions paid in the home market pursuant to 773(a)(6)(C)(iii) of the Act and19 CFR 351.410(c). We made adjustments, in accordance with 19 CFR 351.410(e), for indirect selling expenses incurred on comparison market or U.S. sales where commissions were granted on sales in one market but not in the other (i.e., commission offset). Specifically, where commissions are incurred in one market, but not in the other, we limited the amount of such allowance to the amount of either the indirect selling expenses incurred in the one market or the commissions allowed in the other market, whichever is less.

Level of Trade

In accordance with section 773(a)(1)(B) of the Act, to the extent practicable, the Department determines NV based on sales in the comparison market at the same LOT as the EP or CEP sales in the U.S. market (Aragonesas had only EP sales in the U.S. market). The NV LOT is based on the starting price of the sales in the comparison market. Where NV is based on CV, the Department determines the NV LOT based on the LOT of the sales from which the Department derives selling expenses, general and administrative expenses, and profit for CV, where possible. For EP sales, the U.S. LOT is based on the starting price of the sales to the U.S. market.

To determine whether NV sales are at a different LOT than EP sales, the Department examines stages in the marketing process and level of selling functions along the chain of distribution between the producer and the customer. See 19 CFR 351.412(c)(2). Substantial differences in selling activities are a necessary, but not sufficient, condition for determining that there is a difference in the stages of marketing. Id.; see also Notice of Final Determination of Sales at Less Than Fair Value: Certain Cut-to-Length Carbon Steel Plate From South Africa, 62 FR 61731, 61732 (November 19, 1997). When the Department is unable to match U.S. sales to foreign like product sales in the comparison market at the same LOT as the EP sale, the Department may compare the U.S. sales to sales at a different LOT in the comparison market. In comparing EP sales at a different LOT in the comparison market, where the difference affects price comparability, as manifested by a pattern of consistent price differences between comparison-market sales at the NV LOT and comparison-market sales at the LOT of the export transaction, the Department makes an LOT adjustment under section 773(a)(7)(A) of the Act.

In this administrative review, Aragonesas had only EP sales in the U.S. market, thus the CEP methodology was not employed in this review. The Department obtained information from Aragonesas regarding the marketing stages involved in making the reported home market and U.S. sales, including a description of the selling activities performed for each channel of distribution. Aragonesas reported that it made EP sales in the U.S. market through a single distribution channel (i.e., sales to industrial users). Because all sales in the United States are made through a single distribution channel, we preliminarily determine that there is one LOT in the U.S. market.

For the home market, Aragonesas reported that it made sales through three channels of distribution (i.e., industrial customers, retail customers, and distributors), noting that the selling functions are more or less identical for retail and distributor sales. We compared the selling functions performed by Aragonesas for these distribution channels and found that Aragonesas performed similar selling activities in the home market for the retail and distributor channels of distribution, and fewer selling activities for industrial home market customers. Thus, we preliminarily find that the retail and distributor channels of distribution constitute one NV LOT, while the channel of distribution for industrial customers constitutes a second NV LOT. Pursuant to section 773(a)(7)(ii) of the Act, where sales in the U.S. market are matched with sales in the home market at a more advanced LOT (i.e., retail and distributor channels of distribution), the Department will grant an LOT adjustment to NV if there is a consistent pattern of price differences. Therefore, we compared prices at the two LOTs in the home market and found that a consistent pattern of price differences does not exist between the LOTs. Therefore, an LOT adjustment is not warranted. See Preliminary Calculation Memorandum.

Currency Conversion

Pursuant to section 773A(a) of the Act, we converted amounts expressed in foreign currencies into U.S. dollar amounts based on the exchange rates in effect on the dates of the U.S. sales, as reported by the Federal Reserve Bank of the United States.

Preliminary Results of Review

As a result of this review, the Department preliminarily determines that the weighted-average dumping margin for the period June 1, 2007 through May 31, 2008 is as follows:

Manufacturer/Exporter | Weighted- Average Margin (percentage)
Aragonesas Industrias y Energía S.A. | 45.50

Cash Deposit Requirements

The following cash deposit requirements will be effective for all shipments of the subject merchandise entered, or withdrawn from warehouse, for consumption on or after the publication date of the final results of this administrative review, as provided by section 751(a)(2)(C) of the Act: (1) the cash deposit rate for the company listed above will be that established in the final results of this review, except if the rate is less than 0.50 percent, and therefore, de minimis within the meaning of 19 CFR 351.106(c)(1), in which case the cash deposit rate will be zero; (2) for previously reviewed or investigated companies not participating in this review, the cash deposit rate will continue to be the company-specific rate published for the most recent period; (3) if the exporter is not a firm covered in this review, or the original less than fair value (“LTFV”) investigation, but the manufacturer is, the cash deposit rate will be the rate established for the most recent period for the manufacturer of the merchandise; and (4) the cash deposit rate for all other manufacturers or exporters will continue to be 24.83 percent, the “All Others” rate made effective by the LTFV investigation. See Chlorinated Isocyanurates From Spain: Notice of Final Determination of Sales at Less Than Fair Value, 70 FR 24506 (May 10, 2005). These requirements, when imposed, shall remain in effect until further notice.

Assessment Instructions

Upon publication of the final results of this review, the Department shall determine, and CBP shall assess, antidumping duties on all appropriate entries exported by Aragonesas. Pursuant to 19 CFR 351.212(b)(1), the Department calculates an assessment rate for each importer of the subject merchandise for each respondent. In accordance with 19 CFR 351.212(b)(1), we will calculate importer-specific assessment rates on the basis of the ratio of the total amount of antidumping duties calculated for the examined sales and the total quantity of the examined sales. These rates will be assessed uniformly on all entries of the respective importers made during the POR if these preliminary results are adopted in the final results of review. The Department intends to issue appropriate assessment instructions directly to CBP 15 days after the date of publication of the final results of this review.

This notice constitutes rescission of the administrative review of Inquide. The Department will issue appropriate assessment instructions directly to CBP 15 days after the date of publication of this notice.

The Department clarified its “automatic assessment” regulation on May 6, 2003. See Antidumping and Countervailing Duty Proceedings: Assessment of Antidumping Duties, 68 FR 23954 (May 6, 2003) (“Assessment Policy Notice”). This clarification applies to entries of subject merchandise during the POR produced by any company included in the final results of review for which the reviewed company did not know that the merchandise it sold to the intermediary (e.g., a reseller, trading company, or exporter) was destined for the United States. In such instances, the Department will instruct CBP to liquidate unreviewed entries at the “All Others” rate if there is no rate for the intermediary involved in the transaction. See Assessment Policy Notice for a full discussion of this clarification.

Disclosure and Public Hearing

We will disclose the calculations used in our analysis to parties to this segment of the proceeding within five days of the public announcement of this notice. See 19 CFR 351.224(b). Interested parties who wish to request a hearing, or to participate if one is requested, must submit a written request to the Assistant Secretary for Import Administration, Room 1870, within 30 days of the date of publication of this notice. Requests should contain: (1) the party's name, address and telephone number; (2) the number of participants; and (3) a list of issues to be discussed. See 19 CFR 351.310(c).

Pursuant to 19 CFR 351.309, interested parties may submit written comments in response to these preliminary results. Unless the time period is extended by the Department, case briefs are to be submitted within 30 days after the date of publication of this notice in the Federal Register. See 19 CFR 351.309(c). Rebuttal briefs, which must be limited to arguments raised in case briefs, are to be submitted no later than five days after the time limit for filing case briefs. See 19 CFR 351.309(d). Parties who submit arguments in this proceeding are requested to submit with the argument: (1) a statement of the issues; (2) a brief summary of the argument; and (3) a table of authorities cited. Further, we request that parties submitting written comments provide the Department with an electronic copy of the public version of such comments. Case and rebuttal briefs must be served on interested parties, in accordance with 19 CFR 351.303(f).

Unless extended, the Department will issue the final results of this administrative review, including the results of its analysis of issues raised in any written briefs, not later than 120 days after the date of publication of this notice, pursuant to section 751(a)(3)(A) of the Act.

Notification to Importers

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This administrative review and notice are published in accordance with sections 751(a)(1) and 777(i)(1) of the Act and 19 CFR 351.221.

Dated: May 19, 2009.
Ronald K. Lorentzen,
Acting Assistant Secretary for Import Administration.

[FR Doc. E9-12293 Filed 5-26-04; 8:45 am]

BILLING CODE 3510-DS-S